DEPARTMENT OF THE INTERIOR

National Park Service

Notice of Inventory Completion: Nevada State Museum, Carson City, NV

AGENCY: National Park Service, Interior.

ACTION: Notice.

Notice is hereby given in accordance with the Native American Graves Protection and Repatriation Act (NAGPRA), 25 U.S.C. 3003, Sec. 5, of the completion of an inventory of human remains in the possession of the Nevada State Museum, Carson City, NV. These human remains were removed from an unidentified site in the vicinity of Pyramid Lake, Washoe County, NV.

This notice is published as part of the National Park Service’s administrative responsibilities under NAGPRA, 25 U.S.C. 3003, Sec. 5 (d)(3). The determinations within this notice are the sole responsibility of the museum, institution, or Federal agency that has control of these Native American human remains. The National Park Service is not responsible for the determinations within this notice.

A detailed assessment of the human remains was made by Nevada State Museum professional staff in consultation with a representative of the Pyramid Lake Paiute Tribe of the Pyramid Lake Reservation, Nevada.

In 1971, human remains representing a minimum of one individual were removed by an unknown person from site 26Wa1019 in the vicinity of Pyramid Lake, Washoe County, NV. The human remains were donated anonymously to the Nevada State Museum in 1971. The human remains are of a female between 25 and 35 years of age. No known individual was identified. No associated funerary objects are present.

These human remains were examined by Douglas Owsley of the Smithsonian Institution. Dr. Owsley indicates that the cranial morphology of this individual is consistent with known Paiute individuals. Ancestors of the Pyramid Lake Paiute Tribe of the Pyramid Lake Reservation, Nevada, have traditionally occupied the area around where these human remains were recovered.

Officials of the Nevada State Museum have determined that, pursuant to 25 U.S.C. 3001, Sec. 2 (9-10), the human remains listed above represent the physical remains of one individual of Native American ancestry. Officials of the Nevada State Museum also have determined that, pursuant to 25 U.S.C. 3001, Sec. 2 (2), there is a relationship of shared group identity that can be reasonably traced between these Native American human remains and the Pyramid Lake Paiute Tribe of the Pyramid Lake Reservation, Nevada.

Representatives of any other Indian tribe that believes itself to be culturally affiliated with these human remains should contact Dr. Alanah Woody, NAGPRA Coordinator, Nevada State Museum, 600 North Carson Street, Carson City, NV, 89701, telephone (775) 687-4810, extension 229, before May 8, 2003. Repatriation of the human remains to the Pyramid Lake Paiute Tribe of the Pyramid Lake Reservation, Nevada, may proceed after that date if no additional claimants come forward.

The Nevada State Museum is responsible for notifying the Pyramid Lake Paiute Tribe of the Pyramid Lake Reservation, Nevada that this notice has been published.

Dated: January 28, 2003.
John Robbins,
Assistant Director, Cultural Resources Stewardship and Partnerships.

[FR Doc. 03-8505 Filed 4-7-03; 8:45 am]

BILLING CODE 4310-70-S